DEPARTMENT OF COMMERCE

National Oceanic and Atmospheric Administration

RIN 0648-XF336

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Habitat Protection and Ecosystem-Based Management (Habitat) Advisory Panel (AP) in Charleston, SC. The meeting is open to the public.

DATES: The meeting will be held on Tuesday, May 16, 2017, from 9 a.m. until 4 p.m. and Wednesday, May 17, 2017, from 9 a.m. until 4 p.m.

ADDRESSES: Meeting address: The meeting will be held at the Town and Country Inn, 2008 Savannah Highway, Charleston, SC 29407; phone: (800) 334-6660 or (843) 571-1000

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone (843) 571-4366 or toll free (866) SAFMC-10; fax: (843) 769-4520; email: kim.iverson@safmc.net.

SUPPLEMENTARY INFORMATION: Items to be addressed or sessions to be conducted during this meeting include: The Council's Fishery Ecosystem Plan (FEP) II and Essential Fish Habitat (EFH); Draft EFH Policy Statement for Artificial Reefs; Habitat and Ecosystem Tools supporting FEP II; National Marine Fisheries Service (NMFS) Permit/Policy Activities; a presentation by the Sargasso Sea Commission; the South Atlantic Landscape Conservation Cooperative (SALCC) Conservation Blueprint- refining indicators and linkages to FEP II; and proposed South Atlantic deepwater coral mapping.

Members of the AP will discuss items and provide recommendations as appropriate.

Special Accommodations

These meetings are physically accessible to people with disabilities. Requests for auxiliary aids should be directed to the council office (see ADDRESSES) 5 days prior to the meeting.

Note: The times and sequence specified in this agenda are subject to change.

Dated: April 27, 2017.
Tracey L. Thompson,
Acting Deputy Director, Office of Sustainable Fisheries, National Marine Fisheries Service.

[FR Doc. 2017-08820 Filed 5-1-17; 8:45 am]

BILLING CODE 3510-22-P